SOCIAL SECURITY ADMINISTRATION

20 CFR Part 404

[Docket No. SSA-2011-0081]

RIN 0960-AG28

Revised Listings for Growth Disorders and Weight Loss in Children; Correcting Amendments

AGENCY: Social Security Administration.

ACTION: Final rule; Correcting amendments.

SUMMARY: We published a document in the Federal Register revising our rules on April 13, 2015. That document inadvertently included incorrect values in table II of listing 105.08(B)(1)(c) of appendix 1 to subpart P of 20 CFR part 404. This document corrects the final regulation by revising this table.

DATES: Effective August 12, 2015.

FOR FURTHER INFORMATION CONTACT: Cheryl A. Williams, Office of Medical Listings Improvement, Social Security Administration, 6401 Security Boulevard, Baltimore, Maryland 21235-6401, (410) 965-1020. For information on eligibility or filing for benefits, call our national toll-free number, 1-800-772-1213, or TTY 1-800-325-0778, or visit our Internet site, Social Security Online, at http://www.socialsecurity.gov.

SUPPLEMENTARY INFORMATION: We published a final rule in the Federal Register of April 13, 2015 (80 FR 19522) titled, Revised Listings for Growth Disorders and Weight Loss in Children. The final rule, among other things, amended 20 CFR part 404. We inadvertently included incorrect values in table II of listing 105.08(B)(1)(c) of appendix 1 to subpart P of part 404. This document amends the table and corrects the final regulation.

(Catalog of Federal Domestic Assistance Program Nos. 96.001, Social Security—Disability Insurance; 96.002, Social Security—Retirement Insurance; 96.004, Social Security—Survivors Insurance; and 96.006, Supplemental Security Income).

List of Subjects in 20 CFR Part 404

Administrative practice and procedure; Blind, Disability benefits; Old-Age, Survivors, and Disability Insurance; Reporting and recordkeeping requirements; Social Security.

Accordingly, 20 CFR part 404, subpart P is corrected by making the following correcting amendments:

PART 404—FEDERAL OLD-AGE, SURVIVORS AND DISABILITY INSURANCE (1950-)

1. The authority citation for subpart P of part 404 continues to read as follows:

Authority: Secs. 202, 205(a)-(b) and (d)-(h), 216(i), 221(a), (i), and (j), 222(c), 223, 225, and 702(a)(5) of the Social Security Act (42 U.S.C. 402, 405(a)-(b) and (d)-(h), 416(i), 421(a), (i), and (j), 422(c), 423, 425, and 902(a)(5)); sec. 211(b), Pub. L. 104-193, 110 Stat. 2105, 2189; sec. 202, Pub. L. 108-203, 118 Stat. 509 (42 U.S.C. 902 note).

2. In appendix 1 to subpart P of part 404, revise table II of listing 105.08(B)(1)(c) to read as follows:

Appendix 1 to Subpart P of Part 404—Listing of Impairments

* * * * *

105.08 Growth failure due to any digestive disorder (see 105.00G), documented by A and B:

* * * * *

B. * * *

1. * * *

c. * * *

Table II—Females Birth to Attainment of Age 2
[Third percentile values for weight-for-length]
Length (centimeters) | Weight (kilograms) | Length (centimeters) | Weight (kilograms) | Length (centimeters) | Weight (kilograms)
45.0 | 1.613 | 64.5 | 5.985 | 84.5 | 10.071
45.5 | 1.724 | 65.5 | 6.200 | 85.5 | 10.270
46.5 | 1.946 | 66.5 | 6.413 | 86.5 | 10.469
47.5 | 2.171 | 67.5 | 6.625 | 87.5 | 10.670
48.5 | 2.397 | 68.5 | 6.836 | 88.5 | 10.871
49.5 | 2.624 | 69.5 | 7.046 | 89.5 | 11.074
50.5 | 2.852 | 70.5 | 7.254 | 90.5 | 11.278
51.5 | 3.081 | 71.5 | 7.461 | 91.5 | 11.484
52.5 | 3.310 | 72.5 | 7.667 | 92.5 | 11.691
53.5 | 3.538 | 73.5 | 7.871 | 93.5 | 11.901
54.5 | 3.767 | 74.5 | 8.075 | 94.5 | 12.112
55.5 | 3.994 | 75.5 | 8.277 | 95.5 | 12.326
56.5 | 4.220 | 76.5 | 8.479 | 96.5 | 12.541
57.5 | 4.445 | 77.5 | 8.679 | 97.5 | 12.760
58.5 | 4.669 | 78.5 | 8.879 | 98.5 | 12.981
59.5 | 4.892 | 79.5 | 9.078 | 99.5 | 13.205
60.5 | 5.113 | 80.5 | 9.277 | 100.5 | 13.431
61.5 | 5.333 | 81.5 | 9.476 | 101.5 | 13.661
62.5 | 5.552 | 82.5 | 9.674 | 102.5 | 13.895
63.5 | 5.769 | 83.5 | 9.872 | 103.5 | 14.132

Dated: July 23, 2015.
Carolyn W. Colvin,
Acting Commissioner of Social Security.

[FR Doc. 2015-19825 Filed 8-11-15; 8:45 am]

BILLING CODE 4191-02-P